LEGAL SERVICES CORPORATION

Sunshine Act Meeting

DATE AND TIME: The Legal Services Corporation's Board of Directors and its six committees will meet April 17-19, 2016. On Sunday, April 17, the first meeting will commence at 2:00 p.m., Eastern Standard Time (EST), with the meeting thereafter commencing promptly upon adjournment of the immediately preceding meeting. On Monday, April 18, the first meeting will commence at 9:00 a.m., EST, with the next meeting commencing promptly upon adjournment of the immediately preceding meeting. On Tuesday, April 19, the first meeting will commence at 8:45 a.m., EST, it will be followed by the closed session meeting of the Board of Directors which will commence promptly upon adjournment of the prior meeting.

LOCATION: 3333 K Street NW., 3rd Floor, F. McCalpin Conference Center Washington, DC 20007.

PUBLIC OBSERVATION: Unless otherwise noted herein, the Board and all committee meetings will be open to public observation. Members of the public who are unable to attend in person but wish to listen to the public proceedings may do so by following the telephone call-in directions provided below.

CALL-IN DIRECTIONS FOR OPEN SESSIONS:

• Call toll-free number: 1-866-451-4981;

• When prompted, enter the following numeric pass code: 5907707348

• When connected to the call, please immediately “MUTE” your telephone.

Members of the public are asked to keep their telephones muted to eliminate background noises. To avoid disrupting the meeting, please refrain from placing the call on hold if doing so will trigger recorded music or other sound. From time to time, the presiding Chair may solicit comments from the public.

Meeting Schedule
| Time *
Sunday, April 17, 2016:
1. Institutional Advancement Committee | 2:00 p.m.
2. Communications Subcommittee of the Institutional Advancement Committee
3. Governance & Performance Review Committee
Monday, April 18, 2016:
1. Operations & Regulations Committee | 9:00 a.m.
2. Delivery of Legal Services Committee.
3. Audit Committee.
4. Finance Committee.
5. Board of Directors.
Tuesday, April 19, 2016:
1. Board of Directors | 8:45 a.m.

STATUS OF MEETING: Open, except as noted below.

* Please note that all times in this notice are in Eastern Standard Time.

Board of Directors—Open, except that, upon a vote of the Board of Directors, a portion of the meeting may be closed to the public to hear briefings by management and LSC's Inspector General, and to consider and act on the General Counsel's report on potential and pending litigation involving LSC, and on a list of prospective funders.**

** Any portion of the closed session consisting solely of briefings does not fall within the Sunshine Act's definition of the term “meeting” and, therefore, the requirements of the Sunshine Act do not apply to such portion of the closed session. 5 U.S.C. 552b(a)(2) and (b). See also 45 CFR § 1622 1622.3.

Institutional Advancement Committee—Open, except that the meeting may be closed to the public to receive a briefing on the donor report.**

Audit Committee—Open, except that the meeting may be closed to the public to hear a briefing on the Office of Compliance and Enforcement's active enforcement matters, and a report on the integrity of electronic data.**

A verbatim written transcript will be made of the closed sessions of the Board, Institutional Advancement Committee, and Audit Committee. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

April 17, 2016

Institutional Advancement Committee

1. Approval of agenda

2. Approval of minutes of the Committee's meeting on January 29, 2016

3. Approval of minutes of the Committee's telephonic meeting on March 22, 2016

4. Development Report

5. Update on Leaders Council

6. Public Comment

7. Consider and act on other business

8. Consider and act on motion to adjourn open session meeting and proceed to a closed session

Closed Session

1. Approval of the minutes of the Committee's Closed Session meeting on January 29, 2016

2. Donor Report

3. Consider and act on motion to adjourn the meeting

April 17, 2016

Communications Subcommittee of the Institutional Advancement Committee

Open Session

1. Approval of agenda

2. Approval of minutes of the Subcommittee's meeting on January 29, 2016

3. Communications analytics update

4. Update on youth pamphlet

5. Public comment

6. Consider and act on other business

7. Consider and act on motion to adjourn the meeting

Governance and Performance Review Committee

Open Session

1. Approval of agenda

2. Approval of minutes of the Committee's Open Session meeting of January 29, 2016

3. Report on evaluations of LSC Comptroller, Vice President for Grants Management, and Vice President for Legal Affairs

• Jim Sandman, President

4. Report on foundation grants and LSC's research agenda

• Jim Sandman, President

• Carlos Manjarrez, Director Office of Data Governance and Analysis

5. Report on transition planning

• Ron Flagg, Vice President & General Counsel

6. Consider and act on other business

7. Public Comment

8. Consider and act on motion to adjourn meeting

April 18, 2016

Operations & Regulations Committee

Open Session

1. Approval of agenda

2. Approval of minutes of the Committee's meeting on January 28, 2016

3. Consider and act on 2016-2017 Rulemaking Agenda

• Ron Flagg, General Counsel

• Stefanie Davis, Assistant General Counsel

• Mark Freedman, Senior Associate General Counsel

4. Update on rulemaking workshops for 45 CFR part 1630—Cost Standards and the Property Acquisition and Management Manual

• Ron Flagg, General Counsel

• Stefanie Davis, Assistant General Counsel

5. Consider and Act on Further Notice of Proposed Rulemaking for 45 CFR part 1610.7—Transfers of LSC Funds, and 45 CFR part 1627—Subgrants and Membership Fees or Dues

• Ron Flagg, General Counsel

• Stefanie Davis, Assistant General Counsel

• Mark Freedman, Senior Associate General Counsel

6. Update on performance management and human capital management

• Traci Higgins, Director of Human Resources

7. Report on data validation and enhancement process

• Carlos Manjarrez, Director Office of Data Governance and Analysis

8. Other public comment

9. Consider and act on other business

10. Consider and act on motion to adjourn meeting

April 18, 2016

Delivery of Legal Services Committee

Open Session

1. Approval of agenda

2. Approval of minutes of the Committee's meeting on January 28 & 29, 2016

3. Update on LSC management proposal to review and revise Performance Criteria

• Lynn Jennings, Vice President for Grants Management

4. Update on pilot project for client participation in grantee program visits

• Althea Hayward, Deputy Director, Office of Program Performance

5. Presentation on grantee oversight by the Office of Program Performance

a. Grantee visits

b. Program Quality Visit Recommendations

c. Post-Program Quality Visit and grantee application reviews

d. Special grant conditions

• Lynn Jennings, Vice President for Grants Management

• Janet LaBella, Director, Office of Program Performance

6. Public comment

7. Consider and act on other business

8. Consider and act on motion to adjourn the meeting

April 18, 2016

Audit Committee

Open Session

1. Approval of agenda

2. Approval of minutes of the Committee's meeting on January 29, 2016

3. Approval of minutes of the Combined Finance and Audit Committees' January 29, 2016 meeting

4. Briefing of Office of Inspector General

• Jeffrey Schanz, Inspector General

5. Management update regarding risk management

• Ron Flagg, General Counsel

6. Briefing about referrals by the Office of Inspector General to the Office of Compliance and Enforcement including matters from the annual Independent Public Accountants' audits of grantees

• Lora Rath, Director of Compliance and Enforcement

7. Report on the implementation of the auditor's recommendation regarding inventory management

• David Richardson, Treasurer/Comptroller

8. Briefing about LSC's oversight of grantees' services to groups

• Ron Flagg, General Counsel

• Janet LaBella, Director, Office of Program Performance

• Lora M. Rath, Director, Office of Compliance and Enforcement

9. Consider and act on other business

10. Consider and act on motion to adjourn the open session meeting and proceed to a closed session

Closed Session

11. Approval of minutes of the Committee's Closed Session meeting of January 29, 2016

12. Briefing by the Office of Compliance and Enforcement on active enforcement matter(s) and follow-up to open investigation referrals from the Office of Inspector

• Lora Rath, Director of Compliance and Enforcement

13. Report on the integrity of electronic data

• Peter Campbell, Chief Information Officer

14. Consider and act on motion to adjourn the meeting

April 18, 2016

Finance Committee

Open Session

1. Approval of agenda

2. Approval of minutes of the Committee's Open Session meeting on January 29, 2016

3. Approval of minutes of the Combined Finance and Audit Committees' January 29, 2016 meeting

4. Presentation of LSC's Financial Report for the first five months of FY 2016

• David Richardson, Treasurer/Comptroller

5. Consider and act on LSC's Revised Consolidated Operating Budget for FY 2016

• David Richardson, Treasurer/Comptroller

6. Report on the FY 2017 appropriations process

• Carol Bergman, Director of Government Relations & Public Affairs

7. Management discussion regarding process and timetable for FY 2018 Budget request

• Carol Bergman, Director of Government Relations & Public Affairs

8. Public comment

9. Consider and act on other business

10. Consider and act on adjournment of meeting

April 18-19, 2016

Board of Directors

Open Session—April 18th

1. Pledge of Allegiance

2. Approval of agenda

3. Approval of minutes of the Board's Open Session meeting of January 30, 2016

4. Discussion of LSC's Strategic Plan for 2017-2020

5. Consider and act on motion to recess the meeting to April 19th

Open Session—April 19th

1. Chairman's Report

2. Members' Report

4. President's Report

5. Inspector General's Report

6. Consider and act on the report of the Institutional Advancement Committee

7. Consider and Act on allocation of private funds request

8. Consider and act on the report of the Governance and Performance Review Committee

9. Consider and act on the report of the Operations and Regulations Committee

10. Consider and act on the report of the Delivery of Legal Services Committee

10. Consider and act on the report of the Audit Committee

11. Consider and act on the report of the Finance Committee

12. Consider and act on the resolution recognizing and thanking pro bone counsel

13. Public Comment

14. Consider and act on other business

15. Consider and act on motion to adjourn the open session meeting and proceed to a closed session

Closed Session

1. Approval of minutes of the Board's Closed Session meeting of January 30, 2016

2. Briefing by Management

3. Briefing by Inspector General

4. General Counsel's briefing on potential and pending litigation involving LSC

5. Consider and act on list of prospective funders

6. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: April 6, 2016.
Katherine Ward,
Executive Assistant to the Vice President for Legal Affairs, General Counsel & Corporate Secretary.

[FR Doc. 2016-08328 Filed 4-7-16; 11:15 am]

BILLING CODE 7050-01-P